DEPARTMENT OF ENERGY

Federal Energy Regulatory Commission

[Project No. 1971-082]

Idaho Power Company; Notice Rejecting Request for Rehearing

February 19, 2004.

1. On January 20, 2004, Idaho Power Company (Idaho Power) filed a request for rehearing of a December 19, 2003, letter by the Director, Office of Energy Projects (Director), responding to Idaho Power's objections with respect to proposed meetings between representatives of the Commission and Indian tribes with an interest in the relicensing of Idaho Power's Hells Canyon Hydroelectric Project.

2. Section 313(a) of the Federal Power Act, 18 U.S.C. 8251(a), provides that requests for rehearing may be filed only by persons aggrieved by an order issued by the Commission. Moreover, rule 713 of the Commission's rules of practice and procedure, 18 CFR 385.713 (2004), provides that a rehearing request may be sought after a final decision or other final order in a proceeding. The Director's December 19, 2003, letter is not a final decision or order. It does not impose an obligation on any party or adjudicate anyone's substantive rights; rather, the letter simply responds to questions regarding proposed procedures. That being the case, Idaho Power is not aggrieved by the letter. Moreover, a challenge to the Commission's procedures will be ripe only after the Commission has acted on the merits of Idaho Power's application, not at this preliminary stage.

3. For the above reasons, rehearing of the December 19, 2004, letter does not lie, and Idaho's Power's request for rehearing is rejected.¹

¹ Contemporaneous with its request for rehearing, Idaho Power filed a procedural motion that it requested be considered should the Commission determine that rehearing did not lie. That motion is pending.

4. This notice constitutes final agency action. Requests for rehearing by the Commission may be filed within 30 days of the date of issuance of this notice, pursuant to 18 CFR 385.713 (2003).

Magalie R. Salas,
Secretary.

[FR Doc. E4-394 Filed 2-25-04; 8:45 am]

BILLING CODE 6717-01-P